DEPARTMENT OF JUSTICE

Office of Juvenile Justice and Delinquency Prevention

[OJP (OJJDP)-1337C]

Publication of Final Program Plan for Fiscal Year 2002

AGENCY: Office of Juvenile Justice and Delinquency Prevention, Office of Justice Programs, Justice.

ACTION: Notice regarding publication of the Office of Juvenile Justice and Delinquency Prevention's Final Program Plan for fiscal year (FY) 2002.

SUMMARY: The Office of Juvenile Justice and Delinquency Prevention (OJJDP) is publishing this notice to inform the public that it will postpone publication of its FY 2002 Final Program Plan to accommodate any written comments sent through the U.S. mail which may not yet have reached OJJDP due to precautions taken in response to the anthrax attacks.

FOR FURTHER INFORMATION CONTACT: OJJDP at 202-307-5911. [This is not a toll-free number.]

SUPPLEMENTARY INFORMATION: OJJDP's Proposed Program Plan for fiscal year 2002 was published in the Federal Register on October 23, 2001 (66 FR 53692-710). The October 23 Notice requested that comments on the Proposed Plan be received by December 7, 2001.

During that time period, however, mail delivery to OJJDP was severely disrupted as a result of the extraordinary circumstances arising from the September 11 terrorist acts and subsequent anthrax attacks involving the U.S. mail.

OJJDP expects to receive its backlogged mail within the next few weeks. Consequently, in order to properly review, consider, and respond to any comments submitted by the public on its Proposed Plan, OJJDP will delay publication of the FY 2002 Final Program Plan. OJJDP will make every effort to respond to comments in a timely manner and to publish its Final Program Plan in the Federal Register in early 2002.

Dated: December 18, 2001.
Terrence S. Donahue,
Acting Administrator, Office of Juvenile Justice and Delinquency Prevention.

[FR Doc. 01-31540 Filed 12-20-01; 8:45 am]

BILLING CODE 4410-18-P